NATIONAL CREDIT UNION ADMINISTRATION

Sunshine Act: Notice Of Agency Meeting

TIME AND DATE: 10:00 a.m., Friday, June 23, 2017

PLACE: Board Room, 7th Floor, Room 7047, 1775 Duke Street (All visitors must use Diagonal Road Entrance), Alexandria, VA 22314-3428.

STATUS: Open.

MATTERS TO BE CONSIDERED:

1. NCUA's Rules and Regulations, Statutory Inflation Adjustment of Civil Money Penalties.

2. NCUA's Rules and Regulations, Freedom of Information Act.

3. NCUA's Rules and Regulations, Safe Harbor.

4. NCUA's Rules and Regulations, Corporate Credit Unions.

5. Request for Comment, Overhead Transfer Rate Methodology.

6. Board Briefing, Enterprise Solution Modernization Program.

FOR FURTHER INFORMATION CONTACT: Gerard Poliquin, Secretary of the Board, Telephone: 703-518-6304

Gerard Poliquin,
Secretary of the Board.

[FR Doc. 2017-12651 Filed 6-14-17; 4:15 pm]

BILLING CODE 7535-01-P